DEPARTMENT OF HEALTH AND HUMAN SERVICES

National Institutes of Health

Submission for OMB Review; 30-Day Comment Request; Surveys To Support an Evaluation of the National Human Genome Research Institute (NHGRI) Summer Workshop in Genomics (Short Course)

SUMMARY: Under the provisions of Section 3507(a)(l)(D) of the Paperwork Reduction Act of 1995, the National Institutes of Health (NIH), has submitted to the Office of Management and Budget (OMB) a request for review and approval of the information collection listed below. This proposed information collection was previously published in the Federal Register on March 17, 2015, Vol. 80, Page 13845 and allowed 60-days for public comment. No public comments were received. The purpose of this notice is to allow an additional 30 days for public comment. The National Human Genome Research Institute (NHGRI), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395- 6974, Attention: NIH Desk Officer.

Comment Due Date: Comments regarding this information collection are best assured of having their full effect if received within 30-days of the date of this publication.

FOR FURTHER INFORMATION CONTACT: To obtain a copy of the data collection plans and instruments or request more information on the proposed project contact: Carla L. Easter, Ph.D., Chief, Education and Community Involvement Branch, NHGRI, Building 31, Room B1B55, 31 Center Drive, MSC 2070, Bethesda, MD 20892 or call non-toll-free number (301) 594-1364 or Email your request, including your address to: easterc@mail.nih.gov. Formal requests for additional plans and instruments must be requested in writing.

Proposed Collection: Surveys to Support the National Human Genome Research Institute (NHGRI) Summer Workshop in Genomics (Short Course).

Need and Use of Information Collection: The purpose of the proposed data collection activity is to complete a full-scale outcome evaluation of NHGRI's Summer Workshop in Genomics (a.k.a., the “Short Course”) focusing on program participants between 2004 and 2012. This training program is an intensive multi-day course that updates instructors and researchers of biology and nursing (and other related disciplines) on the latest research trends and topics in genomic science. The course focuses on the continuing effort to find the genetic basis of various diseases and disorders, and current topics on the ethical, legal and social implications of genomics.

The Education and Community Involvement Branch (ECIB) designed the program to accomplish the following goals, which align with elements of both the NIH and NHGRI missions:

• Expand NIH and NHGRI's professional network to reach out to diverse communities, and to create new partnership opportunities.

• Prepare the next generation of genomics professionals for an era of genomic medicine.

• Train and diversify the pipeline of genome professionals in alignment with the NIH and US Department of Health and Human Services diversity efforts.

The ECIB has collected informal course evaluations from active participants immediately upon course completion since inception of the Short Course in 2003, and then used the data to tweak the program, but it has not conducted a long-term, cumulative and substantive outcome evaluation. NHGRI and the ECIB propose to conduct such an outcome evaluation, focusing on three main objectives:

(1) To understand the degree of genetic and genomic curriculum integration by faculty participants;

(2) To explore the barriers and supports faculty experience and changes when integrating curriculum; and

(3) To investigate the influence of the program on the participants' career path.

Survey findings will provide valuable information about the various methods and pathways instructors use to disseminate new knowledge (and the associated timelines), the barriers and supports experienced by faculty as they integrate new knowledge into their teaching, and insights about additional avenues of support that NHGRI could provide teaching faculty from the types of institutions identified. Key indicators will also provide evidence about the degree to which the Short Course is meeting its goals. Collectively, the outcome evaluation will inform future program design and budget allocations.

OMB approval is requested for 2 years. There are no costs to respondents other than their time. The total estimated annualized burden hours are 155.

Estimated Annualized Burden Hours
Form name | Type of respondents | Number of respondents | Number of responses per respondent | Average burden per response (in hours) | Total annual burden hours
Short Course Survey | Students and Faculty | 310 | 1 | 30/60 | 155
Totals |  | 310 |  |  | 155

Dated: August 11, 2015.
Gloria Butler,
NHGRI Project Clearance Liaison, National Institutes of Health.

[FR Doc. 2015-21004 Filed 8-24-15; 8:45 am]

BILLING CODE 4140-01-P